DEPARTMENT OF HOMELAND SECURITY

Coast Guard

[Docket No. USCG-2019-0035]

Towing Safety Advisory Committee

AGENCY: U.S. Coast Guard, Department of Homeland Security.

ACTION: Amended meeting notice; location and date change.

SUMMARY: The dates and location of Towing Safety Advisory Committee meeting that was scheduled for February 20 and 21, 2019, and announced in the Federal Register on February 4, 2019 have been changed. The meetings have been rescheduled to March 12 and 13, 2019, and they will be held at the Double Tree by Hilton Hotel Miami Airport and Convention Center in Miami, FL.

DATES: The subcommittees of the Towing Safety Advisory Committee will meet on Tuesday, March 12, 2019, from 8 a.m. to 5 p.m. to conduct work-group sessions. The full Committee will meet on Wednesday, March 13, 2019, from 8 a.m. to 5 p.m.

These meetings may end early if the subcommittees or the Committee has completed its business, or the meetings may be extended based on the number of public comments.

ADDRESSES: All meetings will be held at the Double Tree by Hilton Hotel Miami Airport and Convention Center, 711 NW 72nd Avenue, Miami, FL 33126;

Hotel website: https://doubletree3.hilton.com/en/hotels/florida/doubletree-by-hilton-hotel-miami-airport-and-convention-center-MIAMADT/index.html?SEO_id=GMB-DT-MIAMADT. For access to the docket or to read documents or comments related to this meeting, including the February notice of the meeting (84 FR 1480, February 4, 2019) which lists the agenda, go to http://www.regulations.gov; insert USCG-2019-0035 in the Search box, press Enter, and then click on the item you wish to view.

FOR FURTHER INFORMATION CONTACT: Mr. Douglas Scheffler, Alternate Designated Federal Officer of the Towing Safety Advisory Committee, Commandant (CG-OES-2), U.S. Coast Guard, 2703 Martin Luther King Jr. Avenue SE, Stop 7509, Washington, DC 20593-7509; telephone 202-372-1087, fax 202-372-8382 or email Douglas.W.Scheffler@uscg.mil

Dated: February 8, 2019.
Jeffrey G. Lantz,
Director of Commercial Regulations and Standards.

[FR Doc. 2019-02462 Filed 2-14-19; 8:45 am]

BILLING CODE 9110-04-P